NATIONAL ARCHIVES AND RECORDS ADMINISTRATION

Office of Governmental Information Services

[NARA-2021-025]

Office of Government Information Services Annual Meeting

AGENCY: Office of Government Information Services (OGIS), National Archives and Records Administration (NARA).

ACTION: Notice of annual open meeting.

SUMMARY: We are announcing OGIS's annual meeting, open to the public in accordance with the Freedom of Information Act (FOIA). The purpose of the meeting is to discuss OGIS's reviews and reports and allow interested people to appear and present oral or written statements.

DATES: The meeting will be on Wednesday, May 12, 2021, from 10:00 a.m. to 12:00 p.m. EDT. You must register by 11:59 p.m. EDT Monday, May 10, 2021, to attend the meeting.

Location: This meeting will be a virtual meeting. We will send instructions on how to access it to those who register according to the instructions below.

FOR FURTHER INFORMATION CONTACT: Kirsten Mitchell by email at ogisopenmeeting@nara.gov or by telephone at 202.741.5770.

SUPPLEMENTARY INFORMATION: This meeting is open to the public in accordance with FOIA provisions at 5 U.S.C. 552(h)(6). We will post all meeting materials at https://www.archives.gov/ogis/outreach-events/annual-open-meeting, including OGIS's 2021 Report for Fiscal Year 2020. The report, to be published concurrently with this open meeting, will summarize OGIS's work, in accordance with FOIA provisions at 5 U.S.C. 552(h)(4)(A). You are invited to present oral or written statements at the meeting. You may submit written statements or questions for OGIS to consider before the meeting by emailing ogisopenmeeting@nara.gov. We will not answer questions about specific OGIS cases.

Procedures: This virtual meeting is open to the public. You must register in advance through the Eventbrite link https://ogis-annual-open-meeting-2021.eventbrite.com, if you wish to attend, and you must include an email address so that we can send you access information. To request accommodations (e.g., a transcript), email ogis@nara.gov or call 202.741.5770. Members of the media who wish to register, those who are unable to register online, and those who require special accommodations, should contact Kirsten Mitchell (contact information listed above).

Alina M. Semo,
Office of Government Information Services Director.

[FR Doc. 2021-09541 Filed 5-5-21; 8:45 am]

BILLING CODE 7515-01-P